NUCLEAR REGULATORY COMMISSION

[Docket Nos. 50-336 AND 50-423]

Dominion Nuclear Connecticut, Inc., et al., Millstone Nuclear Power Station, Unit Nos. 2 and 3; Environmental Assessment and Finding of No Significant Impact

The U.S. Nuclear Regulatory Commission (NRC) is considering issuance of an amendment to Title 10 of the Code of Federal Regulations (10 CFR part 50) for Facility Operating License Nos. DPR-65 and NPF-49, issued to Dominion Nuclear Connecticut, Inc. (the licensee), for operation of the Millstone Nuclear Power Station, Unit Nos. 2 (MP2) and 3 (MP3), located in Waterford, Connecticut. Therefore, as required by 10 CFR 51.21, the NRC is issuing this environmental assessment and finding of no significant impact.

Environmental Assessment

Identification of the Proposed Action

The proposed action would incorporate a change in the MP2 and MP3 Technical Specifications (TSs) to clarify the qualifications standards of the reactor operator and senior reactor operator.

The proposed action is in accordance with the licensee's application dated August 9, 2001.

The Need for the Proposed Action

The proposed action modifies the MP2 and MP3 TSs to avoid confusion between the qualification standards of the facility staff, who are qualified to American National Standards Institute (ANSI) N18.1-1971/Regulatory Guide (RG) 1.8 Revision 0, and the operators who will be qualified to the education and experience guidelines outlined by National Academy for Nuclear Training ACAD 00-003 “Guidelines for Initial Training and Qualification of Licensed Operators.”

Environmental Impacts of the Proposed Action

The NRC has completed its evaluation of the proposed action and concludes that the amendment and its implementation would provide an adequate clarification of the qualification standards.

The proposed action will not significantly increase the probability or consequences of accidents, no changes are being made in the types of any effluents that may be released off site, and there is no significant increase in occupational or public radiation exposure. Therefore, there are no significant radiological environmental impacts associated with the proposed action.

With regard to potential non-radiological impacts, the proposed action does not have a potential to affect any historic sites. It does not affect non-radiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statement for MP2 and MP3, dated June 1973 and December 1984 respectively.

Agencies and Persons Consulted

In accordance with its stated policy, on September 12, 2001, the staff consulted with the Connecticut State official, Michael Firsick of the Department of Environmental Protection, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated August 9, 2001. Documents may be examined, and/or copied for a fee, at the NRC's Public Document Room (PDR), located at One White Flint North, 11555 Rockville Pike (first floor), Rockville, Maryland. Publicly available records will be accessible electronically from the ADAMS Public Library component on the NRC Web site, http://www.nrc.gov (the Electronic Reading Room). If you do not have access to ADAMS or if there are problems in accessing the documents located in ADAMS, contact the NRC PDR Reference staff at 1-800-397-4209, or 301-415-4737, or by e-mail at pdr@nrc.gov.

Dated at Rockville, Maryland, this 12th day of October 2001.
For the Nuclear Regulatory Commission.
Victor Nerses,
Sr. Project Manager, Section 2, Project Directorate I, Division of Licensing Project Management, Office of Nuclear Reactor Regulation.

[FR Doc. 01-26278 Filed 10-17-01; 8:45 am]

BILLING CODE 7590-01-P